ENVIRONMENTAL PROTECTION AGENCY

[EPA-HQ-OPP-2011-0507; FRL-9327-1]

Formetanate HCl; Amendment to the Use Deletion Cancellation Order

AGENCY: Environmental Protection Agency (EPA).

ACTION: Notice.

SUMMARY: This notice announces EPA's amendment to the order for the deletion of uses, voluntarily requested by the registrant and accepted by the Agency, of products containing formetanate HCl, pursuant to section 6(f)(1) of the Federal Insecticide, Fungicide, and Rodenticide Act (FIFRA), as amended. This amendment follows a September 14, 2011 Federal Register Use Deletion Order which approved the voluntary request by Gowan Company to delete certain uses from Formetanate HCl product registrations. These are not the last products containing this pesticide registered for use in the United States. The September 14, 2011 cancellation order allowed the formetanate HCl registrants to sell and distribute existing stocks of products under the previously approved labeling until November 30, 2011. The sole technical registrant for Formetanate HCl, Gowan Company has requested to extend their sale and distribution deadline by 60 days. The Agency will extend the deadline for the registrant to sell and distribute existing stocks until January 31, 2012. This amendment does not affect the deadline of December 31, 2013 for persons other than the registrant to sell, distribute, or use existing stocks of products (including those of (24c) Special Local Needs registrations) whose labels include the deleted uses.

DATES: The amendment is effective November 16, 2011.

FOR FURTHER INFORMATION CONTACT: James Parker, Pesticide Re-evaluation Division (7508P), Office of Pesticide Programs, Environmental Protection Agency, 1200 Pennsylvania Ave. NW., Washington, DC 20460-0001; telephone number: (703) 306-0469; fax number: (703) 308-7070; email address: parker.james@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How can I get copies of this document and other related information?

EPA has established a docket for this action under docket identification (ID) number EPA-HQ-OPP-2011-0507. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What action is the agency taking?

This notice announces the amendment of the final use deletion order of Formetanate HCl products registered under section 3 of FIFRA. These registrations are listed in sequence by registration number in Table 1 of this unit.

Table 1—Formetanate HCl Products Affected
EPA registration No. | Product name
10163-264 | Formetanate Hydrochloride Technical.
10163-265 | Carzol SP Miticide/Insecticide in Water Soluble Packaging.
WA010033 | Carzol SP Insecticide in Water Soluble Packaging.

Table 2 of this unit includes the name and address of record for the registrant of the products in Table 1 of this unit. This number corresponds to the first part of the EPA registration numbers of the products listed above.

Table 2—Registrant of Amended Products
EPA company No. | Company name and address
10163 | Gowan Company, P.O. Box 5569, Yuma, AZ 85366-5569.

On September 14, 2011, EPA published a Use Deletion Order (76 FR 56753) (FRL-8888-2). The order prohibited, among other things, Formetanate HCl registrants to sell and distribute existing stocks of products under the previously approved labeling after November 30, 2011. In a letter dated September 22, 2011, the Formetanate HCl registrant, Gowan Company requested a 60 day extension of the deadline for sales and distribution.

III. Amended Order

Pursuant to FIFRA section 6(f), EPA hereby amends the September 14, 2011 order to allow the formetanate HCl registrants to sell and distribute existing stocks of products under the previously approved labeling until January 31, 2012. Thereafter, registrants will be prohibited from selling or distributing the products identified in Table 1 of Unit II., whose labels include the deleted uses, except for export consistent with FIFRA section 17 or for proper disposal. Persons other than the registrant may sell, distribute, or use existing stocks of products (including those of (24c) Special Local Needs registrations) whose labels include the deleted uses until December 31, 2013, provided that such sale, distribution, or use is consistent with the terms of the previously approved labeling on, or that accompanied the deleted uses.

IV. What is the agency's authority for taking this action?

Section 6(a)(1) of FIFRA provides that the Administrator may permit the continued sale and use of existing stocks of a pesticide whose registration is cancelled under this section, or section 3 or 4, to such extent, under such conditions, and for such uses as the Administrator determines that such sale or use is not inconsistent with the purposes of this Act.

List of Subjects

Environmental protection, Pesticides and pests.

Dated: November 2, 2011.
Peter Caulkins,
Acting Director, Pesticide Re-evaluation Division, Office of Pesticide Programs.

[FR Doc. 2011-29597 Filed 11-15-11; 8:45 am]

BILLING CODE 6560-50-P